DEPARTMENT OF COMMERCE

National Oceanic and Atmospheric Administration

[Docket No. 050318079-5079-01; I.D. 041205E]

RIN 0648-AS32

2006 Mid-Atlantic Fishery Management Council Set-Aside Program

AGENCY: National Marine Fisheries Service (NMFS), National Oceanic and Atmospheric Administration, Commerce.

ACTION: Notice.

SUMMARY: NMFS announces that for fishing year 2006 (January 1- December 31, 2006) the Mid-Atlantic Fishery Management Council (Council) may set aside up to 3 percent of the total allowable landings (TAL) in certain Mid-Atlantic fisheries to be used for research endeavors under a research set-aside (RSA) program. NMFS is soliciting proposals for research activities concerning the summer flounder, scup, black sea bass, Loligo squid, Illex squid, Atlantic mackerel, butterfish, bluefish, and tilefish fisheries. Projects funded under an RSA allocation (or award) must enhance the understanding of the fishery resource or contribute to the body of information on which management decisions are made.

DATES: Applications must be received on or before 5 p.m. eastern standard time on May 18, 2005.

ADDRESSES: Electronic application submissions must be transmitted on-line through http://www.grants.gov. Paper applications must be sent to NMFS, Northeast Regional Office, One Blackburn Drive, Gloucester, MA 01930. Complete information about this program and application instructions are contained in the Federal Funding Opportunity notice at http://www.grants.gov.

FOR FURTHER INFORMATION CONTACT: Additional information may be obtained from: Daniel Furlong, Executive Director, Mid-Atlantic Fishery Management Council, by phone 302-674-2331 ext. 19, or by fax 302-674-5399; Shannon Lyons, Assistant Fishery Plan Coordinator, Mid-Atlantic Fishery Management Council, by phone 302-674-2331 ext. 11, or by email at slyons@mafmc.org; or Paul Perra, Fishery Policy Analyst, NMFS, Northeast Regional Office, One Blackburn Drive, Gloucester, MA 01930, by phone 978-281-9153, by fax 978-281-9135, or by e-mail at paul.perra@noaa.gov.

SUPPLEMENTARY INFORMATION:

Electronic Access:

Application information is available at www.grants.gov. Electronic copies of the Standard Forms for submission of research proposals may be found on the Internet in a PDF (Portable Document Format) version at http://www.rdc.noaa.gov/%7Egrants/appkit.html under the title “Grants Management Division- Application Toolkit.” Applicants without Internet access can contact Rich Maney, NMFS, Northeast Regional Office, One Blackburn Drive, Gloucester, MA 01930, or by phone 978-281-9265, by fax 978-281-9117, or by e-mail at rich.maney@noaa.gov.

Program Description

The RSA program provides a mechanism to fund research and compensate vessel owners through the sale of fish harvested under the research quota. Vessels participating in an approved research project may be authorized by the Northeast Regional Administrator, NMFS, to harvest and to land species in excess of any imposed trip limit or during fishery closures. Landings from such trips are sold to generate funds that help defray the costs associated with research projects. No Federal funds are provided for research under this notification. NMFS and the Council will give priority to funding research proposals in the following general subject areas: (1) Bycatch and discard reduction; (2) mesh and gear selectivity; (3) fishing impact on habitat; (4) cooperative stock assessment surveys; (5) improved recreational fishery data; (6) tagging studies; and (7) other research relevant to the Mid-Atlantic fisheries as further discussed in the full funding opportunity announcement, found at the Grants.Gov web site.

Funding Availability

No Federal funds are provided for research under this notification, but rather the opportunity to fish with the catch sold to generate income. The Federal Government may issue an Experimental Fishing Permit (EFP) or Letter of Acknowledgment (LOA), as applicable, which may provide special fishing privileges in response to research proposals selected under this program. The Federal Government shall not be liable for any costs incurred in the conduct of the project. In the past two to five awards have been issued. During the 2004 fishing year, the income generated ranged from $37,210 to $227,507, with an average of $120,652.

Funds generated from the RSA landings shall be used to cover the cost of the research activities, including vessel costs, and to compensate boats for expenses incurred during the collection of the set-aside species. For example, the funds may be used to pay for gear modifications, monitoring equipment, additional provisions (e.g., fuel, ice, food for scientists), or the salaries of research personnel. The Federal Government is not liable for any costs incurred by the researcher or vessel owner should the sale of the excess catch not fully reimburse the researcher or vessel owner for his/her expenses.

The Council, in consultation with the Atlantic States Marine Fisheries Commission, will incorporate the level of RSA (amounts or percentages) for each of the set-aside species for the 2006 fishing year into the Council's recommendations for annual quota specifications. NMFS will consider the recommended level of RSA as part of the associated rulemaking process.

The actual level of RSA quota available to applicants for the 2006 fishing year will depend on the TAL level specified by the Council at its quota-setting meetings in June and August 2005, and the percentage (0 to 3 percent) of the TAL recommended by the Council and approved by NMFS as the level of RSA available for 2006.

To help researchers develop proposals for the 2006 fishing year, the Table 1 (below) provides guidance on the general magnitude of RSA and estimated values that a researcher might expect to be available for fishing year 2006. Table 1 is based on proposed RSA levels available and the actual allocated RSA amounts for these fisheries for the 2005 fishing year. The table is intended only as a guide, to be used when developing research proposals for the 2006 fishing year; it does not necessarily reflect the actual RSA quota that will be allocated for fishing year 2006. Based on Council recommendations, NMFS may choose to adopt less than 3 percent of TAL as a set-aside, or decide not to adopt any set-aside for a given fishery. The estimated values of the set-aside allocations will vary depending on market considerations prevailing at the time the research trips are conducted. In October 2002, the Council voted to set the RSA for tilefish at zero until a completed stock assessment exists. However, tilefish RSA projects may be considered upon the completion of a stock assessment and/or by utilizing RSA quota from other species. The 2006 final specifications used to determine the amount of set-aside for each species will be published separately.

Table 1. Examples of RSA Amounts Based on 2005 FMP Specifications
Allocation Species | Amount Available* (lb) | 2005 RSA Amount (lb) | 2005 RSA Est. Value
Summer Flounder | 909,000 | 353,917 | $569,806
Scup | 495,000 | 303,675 | $182,205
Black Sea Bass | 246,000 | 109,500 | $221,190
Loligo Squid | 1,124,357 | 502,350 | $378,250
Illex Squid | 1,797,328 | none requested | NA
Atlantic Mackerel | 7,605,948 | none requested | NA
Butterfish | 111,179 | none requested | NA
Bluefish | 925,590 | 363,677 | $105,466
Tilefish | 0 | 0 | NA
*Amount available based on proposed 2005 FMP specifications.

Program Priorities

Projects funded under an RSA allocation (or award) must enhance understanding of the fishery resource or contribute to the body of information on which management decisions are made. Research and additional fishing voyages to obtain fish for compensation, may be conducted as specified in the EFP or LOA, as applicable, in or outside of a closed area, within the time frame of a commercial quota closure, and onboard a fishing or other type of vessel including recreational and/or commercial vessels.

The Council and NMFS will give priority to funding research proposals in areas identified as research priorities by the Council and Atlantic States Marine Fisheries Commission (Commission) for the 2006 fishing year.

Statutory Authority

Grants are issued pursuant to sections 303(b)(11), 402(e), and 404(c) of the Magnuson-Stevens Fishery Conservation and Management Act, 16 U.S.C. 1853(b)(11), 16 U.S.C. 1881a(e), and 16 U.S.C. 1881(c), respectively.

Eligibility

Eligible applicants are institutions of higher education, hospitals, other nonprofits, commercial organizations, individuals, State, local and Native American tribal governments. Federal agencies and institutions are not eligible to receive Federal assistance under this notice. Additionally, employees of any Federal agency or Regional Fishery Management Council are ineligible to submit an application under this program. However, Council members who are not Federal employees may submit an application.

DOC/NOAA supports cultural and gender diversity and encourages women and minority individuals and groups to submit applications to the RSA program. In addition DOC/NOAA is strongly committed to broadening the participation of historically black colleges and universities, Hispanic serving institutions, tribal colleges and universities, and institutions that work in underserved areas. DOC/NOAA encourages proposals involving any of the above institutions.

DOC/NOAA encourages applications from members of the fishing community and applications that involve fishing community cooperation and participation.

Cost Sharing Requirements

None required.

Evaluation and Selection Procedures

NMFS will solicit written technical evaluations from the Council members who make up the Research Set-Aside Committee (Committee) and three or more appropriate private and public sector experts to determine the technical merit of the proposal and to provide a rank score of the project based on the criteria described in the Evaluation Criteria section of this document. Following completion of the technical evaluation, NMFS will convene a review panel, including the Committee and technical experts, to review and individually critique the scored proposals to enhance NOAA's understanding of the proposals. Initial successful applicants may be required, in consultation with NMFS, to further refine/modify the study methodology as a condition of project approval. No consensus recommendations will be made by the Committee members, technical experts, or by the review panel.

Evaluation Criteria

1. Importance and/or relevance of the proposed project: This criterion ascertains whether there is intrinsic value in the proposed work and/or relevance to NOAA, Federal, regional, state or local activities. (25 points)

2. Technical/scientific merit: This criterion assesses whether the approach is technically sound and/or innovative, if the methods are appropriate, and whether there are clear project goals and objectives. (25 points)

3. Overall qualifications of the project: This criterion assesses whether the applicant, and team members, possess the necessary education, experience, training, facilities and administrative resources to accomplish the project. (15 points)

4. Project costs: This criterion evaluates the budget to determine if it is realistic and commensurate with the project needs and time frame. (25 points)

5. Outreach and education: This criterion assesses whether the project involves a focused and effective education and outreach strategy regarding NOAA's mission to protect the Nation's natural resources. (10 points)

The merit review ratings shall provide a rank order to the Selecting Official for final funding recommendations. The Selecting Official shall award in the rank order unless the proposal is justified to be selected out of rank order based upon one or more of the following factors:

1. Availability of funding.

2. Balance/distribution of funds:

a. Geographically

b. By type of institutions

c. By type of partners

d. By research areas

e. By project types

3. Whether this project duplicates other projects funded or considered for funding by NOAA or other federal agencies.

4. Program priorities and policy factors.

5. Applicant's prior award performance.

6. Partnerships and/or participation of targeted groups.

7. Adequacy of information necessary to conduct a NEPA analysis and determination.

Key program policy factors (see 4 above) to be considered by the Selecting Official are: (1) The time of year the research activities are to be conducted; (2) the ability of the proposal to meet the applicable experimental fishery requirements; (3) redundancy of research projects; and (4) logistical concerns. Therefore, the highest scoring projects may not necessarily be selected for an award. All approved research must be conducted in accordance with provisions approved by NOAA and provided in an LOA or EFP issued by NMFS. Unsuccessful applications will be returned to the submitter. Successful applications will be incorporated into the award document.

For proposals that request exemptions from existing regulations (e.g., possession limits, closed seasons), the impacts of the proposed exemptions must be analyzed. The Council will analyze these impacts as part of the impacts of the proposed specifications for the upcoming fishing year in the annual quota specification packages it submits to NMFS. However, those individuals with proposals that include vessel activities extending beyond the scope of the analysis provided by the Council may be required to provide additional analysis before issuance of an EFP. Applicants who request regulatory exemptions beyond the scope of the Council analysis may be required to adhere to the regulations governing the issuance of an EFP by NMFS. As appropriate, NMFS will consult with the Council and successful applicants to secure the information required for granting an exemption if issuance of an EFP is necessary for the research to be conducted. No research or RSA harvest quota will be allowed until NMFS notifies the applicant that the applicant's EFP request is approved.

National Environmental Policy Act (NEPA)

NOAA must analyze the potential environmental impacts, as required by NEPA, for applicant projects or proposals which are seeking NOAA federal assistance opportunities, including special fishing privileges. Detailed information on NOAA compliance with NEPA can be found at the following NOAA NEPA website: http://www.nepa.noaa.gov/ including our NOAA Administrative Order 216-6 for NEPA, http://www.nepa.noaa.gov/NAO216_6_TOC.pdf and the Council on Environmental Quality implementation regulations, http://ceq.eh.doe.gov/nepa/regs/ceq/toc_ceq.htm.

Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). NEPA analysis for RSA projects is normally conducted by the Council through the Council's annual fishery management specifications process for RSA species. If the Council's NEPA analysis is not adequate, applicants may be required to provide additional specific information that will serve as the basis for any required impact analyses, applicants may also be requested to assist NOAA in drafting of an environmental assessment, if NOAA determines an assessment is required. Applicants will also be required to cooperate with NOAA in identifying and implementing feasible measures to reduce or avoid any identified adverse environmental impacts of their proposal. The failure to do so shall be grounds for the denial of an application.

Pre-Award Notification Requirements for Grants and Cooperative Agreements

The Department of Commerce Pre-Award Notification Requirements for Grants and Cooperative Agreements contained in the Federal Register notice of December 30, 2004 (69 FR 78389) are applicable to this solicitation.

Universal Identifier

Applicants should be aware that, they are required to provide a Dun and Bradstreet Data Universal Numbering System (DUNS) number during the application process. See the October 30, 2002, (67 FR 66177) Federal Register for additional information. Organizations can receive a DUNS number at no cost by calling the dedicated toll-free DUNS Number request line at 1-866-705-5711 or via the internet http://www.dunandbradstreet.com.

Executive Order 12372

Applications under this program are subject to Executive Order 12372 “Intergovernmental Review of Federal Programs.”

Limitation of Liability

Funding for programs listed in this notice is contingent upon the availability of Fiscal Year 2005 appropriations. In no event will NOAA or the Department of Commerce be responsible for application preparation costs if these programs fail to receive funding or are cancelled because of other agency priorities. Publication of this announcement does not oblige NOAA to award any specific project or to obligate any available funds.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: April 13, 2005.
John Oliver,
Deputy Assistant Administrator for Operations, National Marine Fisheries Service.

[FR Doc. 05-7722 Filed 4-15-05; 8:45 am]

BILLING CODE 3510-22-S